DEPARTMENT OF AGRICULTURE

Rural Utilities Service

Withdrawal of Announcement of Grant Application Deadlines and Funding Levels

AGENCY: Rural Utilities Service, USDA.

ACTION: Withdrawal of Notice of Funds Availability.

SUMMARY: The Rural Utilities Service, an agency delivering the United States Department of Agriculture (USDA) Rural Development Utilities Program, hereinafter referred to as Rural Development, announces the withdrawal of a previously published Notice of Funds Availability (NOFA) for the Community Connect Grant Program due to an inadvertent error. A corrected NOFA appears elsewhere in this issue of the Federal Register.

FOR FURTHER INFORMATION CONTACT: Kenneth Kuchno, Director, Broadband Division, Rural Development Utilities Program, U.S. Department of Agriculture, telephone: (202) 690-4673, fax (202) 690-4389.

SUPPLEMENTARY INFORMATION: On June 29, 2007, at 72 FR 35685, Rural Development published a NOFA for the Community Connect Grant Program, which contained inadvertent errors. As a result of these errors, Rural Development is withdrawing the previously published NOFA and publishing a corrected version elsewhere in the Notices section of this issue of the Federal Register.

Applicants who may have already applied under the previous NOFA announcement must re-apply under today's NOFA in order to be eligible for consideration.

Dated: June 29, 2007.
James M. Andrew,
Administrator, Rural Utilities Service.

[FR Doc. 07-3286 Filed 7-3-07; 8:45 am]

BILLING CODE 3410-15-P